FEDERAL MARITIME COMMISSION

46 CFR Part 541

[Docket No. FMC-2024-0010]

Demurrage and Detention Billing Requirements; Filing of Petition and Request for Comments

AGENCY: Federal Maritime Commission.

ACTION: Notification of filing and request for comments.

SUMMARY: The Federal Maritime Commission (Commission) has received a petition for an extension of the effective date of the final rule for Demurrage and Detention Billing Requirements and seeks public comment.

DATES: Submit comments on or before July 1, 2024.

ADDRESSES: You may submit comments, identified by Docket No. FMC-2024-0010, by the following method:

Federal eRulemaking Portal: Your comments must be written and in English and submitted electronically through the Federal Rulemaking Portal at www.regulations.gov. To submit comments on that site, search for Docket No. FMC-2024-0010 and follow the instructions provided. If you would like to receive future information regarding this petition, you must include your contact information.

A copy of the comment must also be served on the Petitioner's counsel, Joshua P. Stein and Kathryn Sobotta, Cozen O'Connor at jstein@cozen.com and ksobotta@cozen.com, 1200 19th Street NW, Suite 300, Washington, DC 20036.

FOR FURTHER INFORMATION CONTACT: For questions regarding the submission of written public comments or the treatment of any confidential information, please contact David Eng, Secretary, at (202) 523-5725 or by email at secretary@fmc.gov.

SUPPLEMENTARY INFORMATION: Notice is given that the Ocean Carrier Equipment Management Association (Petitioner) has petitioned the Commission, pursuant to 46 CFR 502.51(a), “for an extension of the effective date of the Final Rule for Demurrage and Detention Billing Requirements, 89 FR 14330 (February 26, 2024) (the `Final Rule') by at least 90 days or such longer period as may be deemed appropriate.” A copy of this petition can be found at www.regulations.gov under Docket No. FMC-2024-0010.

For the Commission to make a thorough evaluation of the requested extension presented in the petition, interested parties are afforded an opportunity to participate through submission of written public comments. Comments must be received no later than the above stated date. The comments must be written and in English and submitted electronically through the Federal Rulemaking Portal at www.regulations.gov. To submit comments on that site, search for Docket

No. FMC-2024-0010 and follow the instructions provided. A copy of the comment must also be served on the Petitioner's counsel, Joshua P. Stein and Kathryn Sobotta, Cozen O'Connor at jstein@cozen.com and ksobotta@cozen.com, 1200 19th Street NW, Suite 300, Washington, DC 20036.

Dated: May 31, 2024.
David Eng,
Secretary.

[FR Doc. 2024-12320 Filed 6-7-24; 8:45 am]

BILLING CODE 6730-02-P